COMMITTEE FOR PURCHASE FROM PEOPLE WHO ARE BLIND OR SEVERELY DISABLED

Procurement List; Notice

AGENCY: Committee for Purchase From People Who Are Blind or Severely Disabled.

ACTION: Notice of dispute.

SUMMARY: This action provides public notice of a dispute over a Procurement List product that is furnished by a nonprofit agency employing persons who are blind or have significant disabilities.

DATES: Comments must be received on or before: June 5, 2023.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Notice

If the Committee determines during the adjudication process that appropriate resolution to this dispute is an amendment to this Procurement List product, the Committee will publish a Final Notice in the Federal Register reflecting the change.

Regulatory Flexibility Act Certification

I certify that the following action will not have a significant impact on any small entities. The major factors considered for this certification were:

1. The action did not result in any additional reporting, recordkeeping, or other compliance requirements for small entities other than the nonprofit agency furnishing the product to the Government.

2. The action did result in authorizing nonprofit agencies to furnish the products to the Government.

3. There were no known regulatory alternatives which would have accomplished the objectives of the Javits-Wagner-O'Day Act (41 U.S.C. 8501-8506) in connection with the products added to the Procurement List.

End of Certification

The following Procurement List product(s) have been referred to the Commission for dispute resolution.

Product(s)

Cap, Garrison, Unisex, U.S. Navy, NSN 8405-01-539-5868 (+17 additional sizes)

NPA: Goodwill Industries of South Florida, Inc., Miami, FL

Contracting Activity: Defense Logistics Agency (formerly Defense Supply Center)

The Committee for Purchase From People Who Are Blind or Severely Disabled (operating as the U.S. AbilityOne Commission) advises that on March 30, 2023, a dispute over the Navy Garrison Cap, Unisex, was referred to the Commission by the Defense Logistics Agency. After an initial review of relevant information, this dispute was referred to the Deciding Official for adjudication in accordance with the Javits-Wagner-O'Day Act (41 U.S.C. 8501-8506), the Commission's regulations at 41 CFR chapter 51, and Commission policies and procedures. In resolving this dispute, the Commission could leave the product on the Procurement List as originally added or may amend the Procurement List to reflect the Commission's determination on the product's continued suitability. Because adjudication could require an amendment to the Procurement List, this notice provides interested parties the opportunity to provide comments to the Commission about the dispute generally and serves as the Commission's public notice on potential Procurement List changes. The Commission requests all comments be sent no later than June 5, 2023, to Cassandra Assefa, Regulatory and Policy Attorney, Office of General Counsel, U.S. AbilityOne Commission; email: disputes@abilityone.gov.

Michael R. Jurkowski,
Acting Director, Business Operations.

[FR Doc. 2023-09643 Filed 5-4-23; 8:45 am]

BILLING CODE 6353-01-P